ENVIRONMENTAL PROTECTION AGENCY

[FRL-8477-3]

Issuance of Final NPDES General Permits for Facilities/Operations That Generate, Treat, and/or Use/Dispose of Sewage Sludge by Means of Land Application, Landfill, and Surface Disposal in EPA Region 8

AGENCY: Environmental Protection Agency (EPA).

ACTION: Notice of issuance of NPDES general permits.

SUMMARY: Region 8 of EPA is hereby giving notice of its reissuance of the National Pollutant Discharge Elimination System (NPDES) general permits for facilities or operations that generate, treat, and/or use/dispose of sewage sludge by means of land application, landfill, and surface disposal in the States of CO, MT, ND, and WY and in Indian country in the States of CO, MT, ND, SD, WY and UT (except for the Goshute Indian Reservation and the Navajo Indian Reservation). The effective date of the general permits is October 19, 2007.

The NPDES permit numbers and the areas covered by each general permit are listed below.

State | Permit No. | Area covered by the general permit
Colorado | COG650000 | State of Colorado except for Federal Facilities and Indian country.
| COG651000 | Indian country within the State of Colorado and the portions of the Ute Mountain Indian Reservation located in New Mexico and in Utah.
| COG652000 | Federal Facilities in the State of Colorado, except those located in Indian country, which are covered under permit COG51000.
Montana | MTG650000 | State of Montana except for Indian country.
| MTG651000 | Indian country in the State of Montana.
North Dakota | NDG650000 | State of North Dakota except for Indian country.
| NDG651000 | Indian country within the State of North Dakota (except for Indian country located within the former boundaries of the Lake Traverse Indian Reservation, which are covered under permit SDG651000) and that portion of the Standing Rock Indian Reservation located in South Dakota.
South Dakota | SDG651000 | Indian country within the State of South Dakota (except for the Standing Rock Indian Reservation, which is covered under permit NDG651000), that portion of the Pine Ridge Indian Reservation located in Nebraska, and Indian country located in North Dakota within the former boundaries of the Lake Traverse Indian Reservation.
Utah | UTG651000 | Indian country within the State of Utah except for the Goshute Indian Reservation, Navajo Indian Reservation, and Ute Mountain Indian Reservation (which is covered under permit COG651000).
Wyoming | WYG650000 | State of Wyoming except for Indian country.
| WYG651000 | Indian country within the State of Wyoming.

DATES: The general permits become effective on October 19, 2007 and will expire five years from that date. For appeal purposes, the 120 day time period for appeal to the U.S. Federal Courts will begin October 19, 2007.

ADDRESSES: The administrative record is available by appointment for review and copying at the EPA Region 8 offices during the hours of 10 a.m. to 4 p.m. Monday through Friday, Federal holidays excluded. To make an appointment to look at or copy the documents call Ellen Bonner at 303-312-6371 or Bob Brobst at 303-312-6129. The Region 8 offices are located at 1595 Wynkoop Street, Denver, CO 80202-1129. A reasonable fee may be charged for copying.

FOR FURTHER INFORMATION CONTACT: Additional information concerning the final permits may be obtained from Bob Brobst, EPA Region 8, Wastewater Unit (8P-W-WW), 1595 Wynkoop Street, Denver, CO 80202-1129, telephone (303) 312-6129 or E-mail at brobst.bob@epa.gov. The final general permits, the fact sheet, Response to Comments, and additional information may be downloaded from the EPA Region 8 Web page at http://www.epa.gov/region08/biosolids. Please allow one week after date of this publication for items to be uploaded to the Web page. Copies of a specific general permit, the fact sheet, and/or Response to Comments may also be obtained by writing Ellen Bonner at the above address or telephone 303-312-6371.

SUPPLEMENTARY INFORMATION: On February 19, 1993 (58 FR 9248), the EPA promulgated “Standards for the Use or Disposal of Sewage Sludge” (40 CFR part 503) and made revisions to the NPDES regulations to include the permitting of facilities/operations that generate, treat, and/or use/dispose of sewage sludge. The 503 regulations were amended on August 4, 1999 (64 FR 42551). The States of South Dakota and Utah currently are the only States in Region 8 that have been authorized to administer the biosolids (sludge) program. The State of Colorado has not been authorized permitting authority for Federal facilities. In 2002 EPA issued general permits for facilities or operations that generate, treat, and/or use/dispose of sewage sludge by means of land application, landfill, and surface disposal in the States of CO, MT, ND, and WY and in Indian country in the States of CO, MT, ND, SD, WY and UT (except for the Goshute Indian Reservation and the Navajo Indian Reservation). Those general permits expire on August 16, 2007. Proposed reissuance of the general permits was published in the Federal Register on July 3, 2007 (72 FR 36453). The public comment period closed on August 2, 2007. A summary of each comment received and Region 8's response to the comments are given in a separate document, “Response to Comments on Reissuance of Region 8 Biosolids General Permits in 2007.” To obtain a copy of the Response to Comments See FOR FURTHER INFORMATION CONTACT: above. None of the comments resulted in a change to the general permits as proposed. Accordingly, the permits are being issued without any change from the public notice draft.

The renewal permits are very similar to the previous permits. The administrative burden for most of the regulated sources is expected to be less under the general permits than with individual permits, and it will be much quicker to obtain permit coverage with general permits than with individual permits. The substantive permit requirements would be essentially the same with an individual permit or under the general permit. Facilities or operations that incinerate sewage sludge are not eligible for coverage under these general permits and must apply for an individual permit. Wastewater lagoon systems that are not using/disposing of sewage sludge do not need to apply for permit coverage unless notified by the permit issuing authority. The deadlines for applying for coverage under the general permits are given in the permits and the Fact Sheet. Facilities/operations that had coverage under the previous general permit and have submitted a timely request for coverage under this renewal permit are covered automatically under the permits unless the permit issuing authority requires the submittal of a new notice of intent (NOI).

Other Legal Requirements

Section 401(a)(1) Certification: Since these permits do not involve discharges to waters of the United States, certification under § 401(a)(1) of the Clean Water Act is not necessary for the issuance of these permits and certification will not be requested.

Economic Impact (Executive Order 12866): EPA has determined that the issuance of this general permit is not a “significant regulatory action” under the terms of Executive Order 12866 (58 FR 51735 (October 4, 1993)) and is therefore not subject to formal OMB review prior to proposal.

Paperwork Reduction Act: EPA has reviewed the requirements imposed on regulated facilities in these proposed general permits under the Paperwork Reduction Act of 1980, 44 U.S.C. 501, et seq. The information collection requirements of these permits have already been approved by the Office of Management and Budget in submissions made for the NPDES permit program under the provisions of the Clean Water Act.

Regulatory Flexibility Act (RFA), 5 U.S.C 601, et seq., as amended by the Small Business Regulatory Enforcement Fairness Act (SBREFA): The RFA requires that EPA prepare a regulatory flexibility analysis for rules subject to the requirements of 5 U.S.C. 553(b) that have a significant impact on a substantial number of small entities. The permit proposed today, however, is not a “rule” subject to the requirements of 5 U.S.C. 553(b) and is therefore not subject to the RFA.

Unfunded Mandates Reform Act: Section 201 of the Unfunded Mandates Reform Act (UMRA), Public Law 104-4, generally requires Federal agencies to assess the effects of their “regulatory actions” defined to be the same as “rules” subject to the RFA) on tribal, state, local governments and the private sector. The permit proposed today, however, is not a “rule” subject to the RFA and is therefore not subject to the requirements of the UMRA.

Appeal of Permit: Any interested person may appeal the general permits in the Federal Court of Appeals in accordance with Section 509(b)(1) of the Clean Water Act (33 U.S.C. 1369(b)(1)). This appeal must be filed within 120 days of the effective date of the permit. Persons affected by a general NPDES permit may not challenge the conditions of the permit as a right of further EPA proceedings (see 40 CFR 124.19). Instead, they may either challenge the permit in court or apply for an individual permit and then request a formal hearing on the issuance or denial on an individual permit.

Authority: Clean Water Act, 33 U.S.C. 1251 et seq.

Dated: September 18, 2007.
Stephen S. Tuber,
Assistant Regional Administrator, Office of Partnerships and Regulatory Assistance.

[FR Doc. E7-19704 Filed 10-4-07; 8:45 am]

BILLING CODE 6560-50-P